ENVIRONMENTAL PROTECTION AGENCY

[EPA-R10-CERCLA-10-2017-0170; FRL-9980-22—Region 10]

Proposed CERCLA Administrative Cost Recovery Settlement; Absorbent Technologies Site, Albany, Oregon

AGENCY: Environmental Protection Agency (EPA).

ACTION: Notice; request for public comment.

SUMMARY: In accordance with section 122(i) of the Comprehensive Environmental Response, Compensation, and Liability Act (CERCLA) notice is hereby given of a proposed administrative settlement for recovery of response costs incurred for the Absorbent Technologies Site located in Albany, Oregon. The settling parties are River City Environmental, Inc. (River City), David L. Ellis, Pamela L. Ellis, and Farouk Al-Hadi. The proposed settlement requires the settling parties to pay a total of $187,500 to the Environmental Protection Agency Hazardous Substance Superfund. Of that amount, River City will pay $75,000, and Mr. Ellis, Ms. Ellis, and Mr. Al-Hadi will jointly pay $112,500. Upon payment of those sums, the settling parties will be released from their obligations for payments to EPA for costs EPA incurred at the Site prior to the effective date of the proposed settlement.

DATES: Comments must be received on or before September 13, 2018.

ADDRESSES: Submit your comments, identified by Docket ID No. EPA-R10-CERCLA-10-2017-0170, to the Federal eRulemaking Portal: http://www.regulations.gov. Follow the online instructions for submitting comments. Once submitted, comments cannot be edited or withdrawn. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: The proposed settlement is available for public inspection at the U.S. EPA Region 10 office located at 805 SW Broadway, Suite 500, in Portland, Oregon. Contact Tom Townsend, EPA Management Analyst, at (503) 326-2763 or townsend.tom@epa.gov to arrange a viewing of the proposed settlement. A copy of the proposed settlement may also be obtained by contacting Richard Mednick, EPA Associate Regional Counsel, at (206) 553-1797 or mednick.richard@epa.gov.

SUPPLEMENTARY INFORMATION:

General Information

The Absorbent Technologies Site is comprised of two properties where a company manufactured a soil additive which allowed farmers to use less water. This manufacturing process involved the use of chemicals, including acrylonitrile, hydrogen cyanide, potassium hydroxide, sulfuric acid, phosphoric acid, methanol and toxic metals. The properties which comprise the Site are located at 2830 Ferry Street SW, and 140 SW Queen Avenue in Albany, Oregon. When the manufacturing operations ceased in October 2013, a substantial amount of chemicals were discarded on-site. Following a notice from the Albany Fire Department, EPA required and performed cleanup activities at the Site through April 2014. In a 2014 settlement, EPA received a payment of $250,000 from owners and operators of the Site. That settlement resolved a cost claim of approximately $500,000. The proposed administrative settlement agreement which is currently subject to public comment will require River City Environmental, Inc., David L. Ellis, Pamela L. Ellis, and Farouk Al-Hadi, four owners of personal or real property at the Queen Avenue portion of the Site, to pay EPA a total of $187,500. These parties also funded or performed some of the cleanup work required by EPA at the Site. Subsequent to the 2014 settlement, EPA incurred approximately $364,786 in additional response costs for the Queen Avenue portion of the Site. Pursuant to the terms of the proposed CERCLA section 122(h)(1) Settlement Agreement for Recovery of Response Costs, the settling parties will pay EPA a total of $187,500. Of that amount, River City will pay $75,000, and Mr. Ellis, Ms. Ellis, and Mr. Al-Hadi will jointly pay $112,500. In return for those payments, EPA covenants not to sue the settling parties for past response costs—response costs incurred by EPA prior to the effective date of the proposed Settlement Agreement—at the Site. For 30 days following the date of publication of this document, EPA will receive written comments relating to the proposed settlement. EPA will consider all comments received and may modify or withdraw its consent to the settlement if comments received disclose facts or considerations which indicate that the settlement is inappropriate, improper, or inadequate. EPA's response to any comments received will be available for public inspection at the U.S. EPA Region 10 offices located at 1200 Sixth Avenue in Seattle, Washington, and 805 SW Broadway, Suite 500, in Portland, Oregon.

Dated: August 8, 2018.
Calvin Terada,
Emergency Management Program Manager, Region 10 Office of Environmental Cleanup.

[FR Doc. 2018-17425 Filed 8-13-18; 8:45 am]

BILLING CODE 6560-50-P